DEPARTMENT OF HOMELAND SECURITY

U.S. Citizenship and Immigration Services

[CIS No. 2483-09; DHS Docket No. USCIS 2009-26]

RIN 1615-ZA91

Extension of the Designation of Sudan for Temporary Protected Status

AGENCY: U.S. Citizenship and Immigration Services, Department of Homeland Security (DHS).

ACTION: Notice.

SUMMARY: This Notice announces that the Secretary of Homeland Security (Secretary) has extended the designation of Sudan for temporary protected status (TPS) for 18 months from its current expiration date of May 2, 2010, through November 2, 2011. This Notice also sets forth procedures necessary for nationals of Sudan (or aliens having no nationality who last habitually resided in Sudan) with TPS to re-register and to apply for an extension of their employment authorization documents (EADs) with U.S. Citizenship and Immigration Services (USCIS). Re-registration is limited to persons who previously registered for TPS under the designation of Sudan and whose applications have been granted or remain pending. Certain nationals of Sudan (or aliens having no nationality who last habitually resided in Sudan) who have not previously applied for TPS may be eligible to apply under the late initial registration provisions.

New EADs with a November 2, 2011, expiration date will be issued to eligible TPS beneficiaries who timely re-register and apply for EADs.

DATES: The extension of the TPS designation of Sudan is effective May 3, 2010, and will remain in effect through November 2, 2011. The 60-day re-registration period begins December 31, 2009, and will remain in effect until March 1, 2010. To facilitate processing of applications, applicants are strongly encouraged to apply as soon as possible after the start of the 60-day re-registration period beginning December 31, 2009.

FOR FURTHER INFORMATION CONTACT: TPS Operations Program Manager, Status and Family Branch, Office of Service Center Operations, U.S. Citizenship and Immigration Services, Department of Homeland Security, 20 Massachusetts Avenue, NW., Washington, DC 20529-2060, telephone (202) 272-1533. This is not a toll-free call. Further information will also be available at local USCIS offices upon publication of this Notice and on the USCIS Web site at http://www.uscis.gov. Note: The phone number provided here is solely for questions regarding this TPS notice. It is not for individual case status inquiries. Applicants seeking information about the status of their individual cases can check My Case Status online at the USCIS Web site listed above, or call the USCIS National Customer Service Center at 1-800-375-5283 (TTY 1-800-767-1833).

SUPPLEMENTARY INFORMATION:

Abbreviations and Terms Used in This Document

Act—Immigration and Nationality Act

ASC—USCIS Application Support Center

CPA—Comprehensive Peace Agreement

DHS—Department of Homeland Security

DOS—Department of State

EAD—Employment Authorization Document

GOS—Government of Sudan

IDPs—Internally Displaced Persons

JEM—Justice and Equality Movement

OSC—U.S. Department of Justice, Office of Special Counsel for Immigration Related Unfair Employment Practices

SAF—Sudan Alliances Forces

Secretary—Secretary of Homeland Security

SLM/A—Sudanese Liberation Movement/Army

TPS—Temporary Protected Status

UN—United Nations

USCIS—U.S. Citizenship and Immigration Services

What Is Temporary Protected Status?

Section 244(b)(1) of the Immigration and Nationality Act, 8 U.S.C. 1254a(b)(1) (the Act), authorizes the Secretary of Homeland Security, after consultation with appropriate agencies of the government, to designate a foreign State (or part thereof) for Temporary Protected Status (TPS). TPS is an immigration status granted to eligible nationals of a designated country (or to persons without nationality who last habitually resided in the designated country) who are temporarily unable to safely return to their home country because of ongoing armed conflict, environmental disaster, or other extraordinary and temporary conditions. During the period for which the Secretary has designated a country for TPS, TPS beneficiaries are eligible to remain in the United States and may obtain work authorization, so long as they continue to meet the terms and conditions of their TPS status. The granting of TPS does not lead to permanent resident status. When the Secretary terminates a country's TPS designation, beneficiaries return to the same immigration status they maintained before TPS (unless that status has since expired or been terminated) or to any other status they may have obtained while registered for TPS.

What Authority Does the Secretary of Homeland Security Have To Extend the Designation of Sudan for TPS?

Section 244(b)(1) of the Act, 8 U.S.C. 1254a(b)(1), authorizes the Secretary, after consultation with appropriate agencies of the government, to designate a foreign State (or part thereof) for TPS.¹ The Secretary may then grant TPS to eligible nationals of that foreign State (or aliens having no nationality who last habitually resided in that State). Section 244(a)(1)(A) of the Act, 8 U.S.C. 1254a(a)(1)(A).

¹ As of March 1, 2003, in accordance with section 1517 of title XV of the Homeland Security Act of 2002 (“HSA”), Public Law 107-296, 116 Stat. 2135, any reference to the Attorney General in a provision of the Immigration and Nationality Act describing functions transferred under the HSA from the Department of Justice to the Department of Homeland Security “shall be deemed to refer to the Secretary” of Homeland Security. See 6 U.S.C. 557 (2003) (codifying HSA, tit. XV, § 1517).

At least 60 days before the expiration of the TPS designation, the Secretary, after consultation with appropriate agencies of the government, must review the conditions in a foreign State designated for TPS to determine whether the conditions for the TPS designation continue to be met and, if so, must determine the length of an extension of the TPS designation. Section 244(b)(3)(A), (C) of the Act, 8 U.S.C. 1254(b)(3)(A), (C). If the Secretary determines that the foreign State no longer meets the conditions for the TPS designation, the Secretary must terminate the designation. Section 244(b)(3)(B) of the Act, 8 U.S.C. 1254(b)(3)(B).

Why Was Sudan Initially Designated for TPS?

On November 4, 1997, the Attorney General designated Sudan for TPS based on an ongoing armed conflict and extraordinary and temporary conditions within that country. See 62 FR 59737; see also section 244(a)(b)(1)(A), (C) of the Act, 8 U.S.C. 1254a(b)(1)(A), (C).

When Was the TPS Designation for Sudan Extended?

Following the initial designation of Sudan for TPS in 1997, the Attorney General and later, the Secretary, have extended—or re-designated and extended—TPS for Sudan a total of 11 times, including this extension. These extensions, or re-designations with extensions, occurred on the following dates. On November 3, 1998, the Attorney General extended the designation for 12 months, determining that the conditions warranting such designation continued to be met. 63 FR 59337.

On November 9, 1999, the Attorney General extended and re-designated Sudan for an additional 12 months based upon the ongoing armed conflict and extraordinary and temporary conditions within Sudan which had worsened. 64 FR 61128.

After that date, the Attorney General and then the Secretary of Homeland Security extended the TPS designation of Sudan four times, determining in each instance that the conditions warranting the designation continued to be met. 65 FR 67407 (Nov. 9, 2000); 66 FR 46031 (Aug. 31, 2001); 67 FR 55877 (Aug. 30, 2002); 68 FR 52410 (Sept. 3, 2003).

On October 7, 2004, the Secretary extended and re-designated Sudan for TPS due to the intensification of the ongoing armed conflict in the Darfur region and the extraordinary and temporary conditions resulting from the ongoing conflict. 69 FR 60168.

After October 2004, the Secretary extended the TPS designation of Sudan three times, determining in each instance that the conditions warranting the designation continued to be met. 70 FR 52429 (Sept. 2, 2005); 72 FR 10541 (May 3, 2007); 73 FR 47606 (August 14, 2008). Today's announcement is the eleventh extension of TPS for Sudan.

Why Is the Secretary Extending the TPS Designation for Sudan Through November 2, 2011?

Over the past year, DHS and the Department of State (DOS) have continued to review conditions in Sudan. Based on this review, the Secretary has determined that an 18-month extension is warranted because the armed conflict is ongoing, and the extraordinary and temporary conditions that prompted the October 7, 2004, re-designation persist.

In 2005, the government of Sudan (GOS) and the Sudan People's Liberation Movement/Army (SPLM/A) signed a Comprehensive Peace Agreement (CPA). The Government of National Unity was formed in September 2005, and a government of Southern Sudan was established in October 2005. However, the overall security situation in Sudan remains fragile and unpredictable. The CPA does not cover the Darfur region of Western Sudan.

Since early 2003, armed conflict has persisted between the GOS and GOS-supported militia groups and two principal Darfuri opposition groups—the Sudanese Liberation Movement/Army (SLM/A) and the Justice and Equality Movement (JEM). Furthermore, violence against civilians has continued, with reports of killings, disappearances, arbitrary arrests and detention, forced population movements, rape, slavery, forced labor, forced conscription of children, and severely restricted freedom of assembly, association, religion, speech, and movement.

Although the Darfur Peace Agreement was signed over three years ago, in May 2006, the situation in Darfur remains serious. Attacks on villages in Darfur noticeably increased in 2008, with between 270,000 and 300,000 people displaced during the year. Despite the signing of a confidence-building agreement between the GOS and JEM and the scheduling of peace talks, fighting in Muhajeria and Shearia broke out in February 2009, driving over 15,000 people to Zam Zam Camp in the northern part of the war-torn area.

According to the United Nations (UN), between January and mid-May 2009, violence displaced approximately 137,000 more individuals in Darfur. Of Darfur's estimated population of 6.3 million, 4.7 million are in need of assistance. In addition, of the 6.3 million, 2.7 million are internally displaced people (IDPs) unable to return to their homes. In April 2009, the UN estimated that more than one million people in Darfur were at risk of losing food, water, and shelter following the expulsion of 13 international aid groups by the GOS. An estimated 130-150 people die monthly from violence in Darfur.

In Southern Sudan, violence has increased in comparison to 2008. Over the past year, the security situation has deteriorated. Between January and June 2009, more than 214,000 people were displaced within southern Sudan due to the conflict. Inter-ethnic and clan clashes and violence over land and cattle remain common. Over 1,000 people have died in such clashes this year. Death rates in Southern Sudan now outnumber those in Darfur.

In Eastern Sudan, the political and security situation remained relatively calm during the UN Security Council reporting period between April 17, 2009, and June 30, 2009. This calm period was due, in part, to the Eastern Sudan Peace Agreement between GOS and rebels from the Eastern Front. However, a number of issues have not been fully addressed. These issues include the growing poverty and economic marginalization, security vulnerabilities, as well as the Eastern Front splitting into three groups. Furthermore, in February 2009, fighting erupted in Malakal, Upper Nile State, between the rebel group Sudan Alliances Forces (SAF) that operates in Eastern Sudan and the SPLA. Casualties were estimated at a minimum of 62 dead (at least 31 of whom were civilians) and 94 wounded (at least 21 of whom were civilians).

Based upon review of country conditions, the Secretary has determined, after consultation with the appropriate Government agencies, that the conditions that prompted the designation of Sudan for TPS continue to be met. See section 244(b)(3)(A) of the Act, 8 U.S.C. 1254a(b)(3)(A). An ongoing armed conflict and extraordinary and temporary conditions in Sudan prevent aliens who are nationals of Sudan (or aliens having no nationality who last habitually resided in Sudan) from returning in safety. The Secretary also finds that it is not contrary to the national interest of the United States to permit aliens who meet the eligibility requirements of TPS to remain in the United States temporarily. See section 244(b)(1)(C) of the Act. On the basis of these findings and determinations, the Secretary concludes that the designation of Sudan for TPS should be extended for an additional 18-month period. See section 244(b)(3)(C) of the Act. There are approximately 700 nationals of Sudan (or aliens having no nationality who last habitually resided in Sudan) who are eligible for TPS under this extended designation.

What Actions Should Qualifying Aliens Take Pursuant to This Notice?

To maintain TPS, a national of Sudan (or an alien having no nationality who last habitually resided in Sudan) who was granted TPS and who has not had TPS withdrawn or who has a pending application for TPS must re-register for TPS during the 60-day re-registration period from December 31, 2009 until March 1, 2010. To re-register, aliens must follow the filing procedures set forth in this Notice. For instructions on this extension, please refer to the following information in this notice, which includes filing and eligibility requirements for TPS and EADs. Information concerning the extension of the designation of Sudan for TPS will also be available at local USCIS offices upon publication of this Notice and on the USCIS Web site at http://www.uscis.gov.

Notice of Extension of the TPS Designation of Sudan

By the authority vested in me as Secretary of Homeland Security under section 244 of the Immigration and Nationality Act, 8 U.S.C. 1254a, I have determined, after consultation with the appropriate government agencies, that the conditions that prompted re-designation of Sudan for temporary protected status (TPS) on October 7, 2004, continue to be met. See section 244(b)(3)(A) of the Act, 8 U.S.C. 1254a(b)(3)(A). I have also determined that it is not contrary to the national interest of the United States to permit aliens who meet the eligibility requirements of TPS to remain in the United States temporarily. See section 244(b)(1)(C) of the Act. On the basis of these determinations, I am extending the TPS designation of Sudan for 18 months from May 3, 2010, through November 2, 2011.

Janet Napolitano,
Secretary.

Temporary Protected Status Filing Requirements

Do I Need to Re-Register for TPS If I Currently Have Benefits Through the Designation of Sudan for TPS, and Would Like to Maintain Them?

Yes. If you already have received TPS benefits through the TPS designation of Sudan, your benefits will expire on May 2, 2010. All TPS beneficiaries must comply with the re-registration requirements, and submit any required biometric services fee and Employment Authorization Document (EAD) application fee (if an EAD is desired), or requests for waivers of those fees, as described in this Notice in order to maintain TPS benefits through November 2, 2011. TPS benefits include temporary protection against removal from the United States and employment authorization during the TPS designation period. Section 244(a)(1) of the Act, 8 U.S.C. 1254a(a)(1). Failure to re-register without good cause will result in the withdrawal of your temporary protected status and possibly your removal from the United States. Section 244(c)(3)(C) of the Act, 8 U.S.C. 1254a(c)(3)(C).

If I Am Currently Registered for TPS or Have a Pending Application for TPS, How Do I Re-Register To Renew My Benefits for the Duration of the Extension Period?

Please submit the proper forms and fees according to Tables 1 and 2 below. The following are some helpful tips to keep in mind when completing your application:

• All applicants are strongly encouraged to pay close and careful attention when filling out the required forms to help ensure that their dates of birth, alien registration numbers, spelling of their names, and other required information is correctly entered on the forms.

• All questions on the required forms should be fully and completely answered. Failure to fully complete each required form may result in a delay in processing of your application.

• Aliens who have previously applied for TPS, but whose applications remain pending, should follow the filing instructions in this Notice if they wish to renew their temporary treatment benefits.

• All TPS re-registration applications submitted without the required fees will be returned to applicants.

• All fee waiver requests should be filed in accordance with 8 CFR 244.20.

• If you received an EAD during the most recent registration period, please submit a photocopy of the front and back of your EAD.

Table 1—Application Forms and Application Fees
If | And | Then
You are re-registering for TPS | You are applying for an extension of your EAD valid through November 2, 2011 | You must complete and file Form I-765, Application for Employment Authorization, with the fee of $340 or a fee waiver request. You must also submit Form I-821, Application for Temporary Protected Status, with no application fee. See separate biometric services fee requirement below.
You are re-registering for TPS | You are NOT applying for renewal of your EAD | You must complete and file Form I-765 with no fee and Form I-821 with no application fee. See separate biometric services fee requirement below. Note: DO NOT check any box for the question “I am applying for” listed on Form I-765, as you are NOT requesting an EAD benefit.
You are applying for TPS as a late initial registrant (see below) and you are between the ages of 14 and 65 (inclusive) | You are applying for a TPS-related EAD | You must complete and file Form I-821 with the $50 application fee or fee waiver request. You must also submit Form I-765 with the fee of $340 or a fee waiver request.
You are applying for TPS as a late initial registrant and are under age 14 or over age 65 | You are applying for a TPS-related EAD | You must complete and file Form I-821 with the $50 application fee or fee waiver request. You must also submit Form I-765 with no fee.
You are applying for TPS as a late initial registrant, regardless of age | You are NOT applying for an EAD | You must complete and file Form I-821 with the $50 application fee or fee waiver request. You must also submit Form I-765 with no fee. Note: DO NOT check any box for the question “I am applying for” listed on Form I-765, as you are NOT requesting an EAD benefit.
Your previous TPS application is still pending | You are applying to renew your temporary treatment benefits (i.e., an EAD with category “C-19” on its face) | You must complete and file Form I-765 with the fee of $340 or a fee waiver request. You must also submit Form I-821 with no application fee.

Certain applicants must also submit a Biometric Service Fee (See Table 2).

Table 2—Biometric Service Fee
If | And | Then
You are 14 years of age or older | 1. You are re-registering for TPS, or | You must submit a Biometric Service fee of $80 or a fee waiver request.
| 2. You are applying for TPS under the late initial registration provisions, or
| 3. Your TPS application is still pending and you are applying to renew temporary treatment benefits (i.e., EAD with category “C-19” on its face)
You are younger than 14 years of age | 1. You are applying for an EAD, or | You do NOT need to submit a Biometric Service fee.
| 2. You are NOT applying for an EAD

What Editions of Form I-821 and Form I-765 Should I Submit?

Only versions of Form I-821 dated October 17, 2007 (Rev. 10/17/07), or later, will be accepted. Only versions of Form I-765 dated May 27, 2008 (Rev. 5/27/08), or later, will be accepted. The revision date can be found in the bottom right corner of the form. The proper forms can be found on the Internet at http://www.uscis.gov or by calling the USCIS forms hotline at 1-800-870-3676.

Where Should I Submit My Application for TPS?

Mail your application for TPS to the proper address in Table 3:

Table 3—Mailing Addresses
U.S. Postal Service deliveries | Non-U.S. Postal Service deliveries
U.S. Citizenship and Immigration Services, Attn: TPS Sudan, P.O. Box 8677, Chicago, IL 60680-8677 | U.S. Citizenship and Immigration Services, Attn: TPS Sudan, 131 S. Dearborn—3rd Floor, Chicago, IL 60603-5517.

If an Immigration Judge or the Board of Immigration Appeals (BIA) granted you TPS, you must submit evidence of the grant of TPS (such as an order from the Immigration Judge) with your first re-registration application to USCIS following the TPS grant. In addition, when you receive your receipt notice (Form I-797) for your first re-registration application, you will need to send an e-mail to Tpsijgrant.vsc@dhs.gov that includes the following information:

• Your name;

• Your date of birth;

• The receipt number for your re-registration;

• Your A-number; and

• The date you were granted TPS.

If you were granted TPS by an Immigration Judge or the BIA and have already registered with USCIS during a previous period, you do not need to submit evidence of the judge's or BIA's TPS grant again. However, please keep your copy available in case USCIS should request to see your evidence again.

Please note that the e-mail address Tpsijgrant.vsc@dhs.gov is solely for re-registration applicants who were granted TPS by Immigration Judges or by the Board of Immigration Appeals to notify USCIS of their grant of TPS. It is not for individual case status inquiries. Applicants seeking information about the status of their individual cases can check My Case Status available at the USCIS Web site, or call the USCIS National Customer Service Center.

Can I File My Application Electronically?

If you are filing for re-registration and do not need to submit supporting documentation (see Table 4) with your application, you may file your application electronically. To file your application electronically, follow directions on the USCIS Web site at: http://www.uscis.gov.

How will I Know if I Need To Submit Supporting Documentation with My Application Package?

See Table 4 below to determine if you need to submit supporting documentation.

Table 4—Who Should Submit Supporting Documentation?
If | Then
One or more of the questions listed in Part 4, Question 2 of Form I-821 applies to you | You must submit an explanation, on a separate sheet(s) of paper, and/or additional documentation. Depending on the nature of the question(s) you are addressing, additional documentation alone may suffice, but usually a written explanation will also be needed.
You were granted TPS by an Immigration Judge or the Board of Immigration Appeals (BIA) | You must include evidence of the grant of TPS (such as a final order from the Immigration Judge or decision of the BIA) with your first re-registration application package.

How do I Know If I am Eligible for Late Initial Registration?

In order to be eligible for late initial registration, you must:

(1) Be a national of Sudan (or an alien who has no nationality and who last habitually resided in Sudan);

(2) Have continuously resided in the United States since October 7, 2004;

(3) Have been continuously physically present in the United States since October 7, 2004; and

(4) Be both admissible as an immigrant, except as provided under section 244(c)(2)(A) of the Act, and not ineligible for TPS under section 244(c)(2)(B) of the Act. See 8 CFR 244.2.

Additionally, you must be able to demonstrate that during the registration period for the most recent re-designation of TPS for Sudan (from October 7, 2004 to April 5, 2005), you:

(1) Were a nonimmigrant or had been granted voluntary departure status or any relief from removal;

(2) Had an application for change of status, adjustment of status, asylum, voluntary departure, or any relief from removal or change of status pending or subject to further review or appeal;

(3) Were a parolee or had a pending request for re-parole; or

(4) Are the spouse or child of an alien currently eligible to be a TPS registrant.

An applicant for late initial registration must file an application for late registration no later than 60 days after the expiration or termination of the conditions described above. See 8 CFR 244.2(g). All late initial registration applications for TPS, pursuant to the designation of Sudan, should be submitted to the Chicago, Illinois address listed in table 3 above.

Are Certain Aliens Ineligible for TPS?

Yes. There are certain criminal and terrorism-related inadmissibility grounds that render an alien ineligible for TPS. See section 244(c)(2)(A)(iii) of the Act, 8 U.S.C. 1254a(c)(2)(A)(iii). Further, aliens who have been convicted of any felony or two or more misdemeanors committed in the United States are ineligible for TPS under section 244(c)(2)(B)(i) of the Act, 8 U.S.C. 1254a(c)(2)(B)(i), as are aliens described in section 208(b)(2)(A) of the Act, 8 U.S.C. 1158(b)(2)(A) (describing the bars to asylum). See section 244(c)(2)(B)(ii) of the Act, 8 U.S.C. 1254a(c)(2)(B)(ii).

If I Currently Have TPS, Can I Lose My TPS Benefits?

Yes, you can lose your TPS benefits. TPS and related benefits will be withdrawn if you:

(1) Are not eligible for TPS,

(2) Fail to timely re-register for TPS without good cause, or

(3) Fail to maintain continuous physical presence in the United States.

See sections 244(c)(3)(A)-(C) of the Act, 8 U.S.C. 1254a(c)(3)(A)-(C).

Does TPS Lead to Lawful Permanent Residence?

No. TPS is a temporary benefit. Having been granted TPS does not, of itself, provide an alien with a basis for seeking permanent resident status. A TPS beneficiary who would like to become a permanent resident must qualify for this status based on a family relationship, employment-based classification, or other generally available basis for immigration, and must be otherwise admissible as an immigrant and meet all other eligibility requirements in accordance with the immigration laws.

If I Am Currently Covered Under TPS, What Status Will I Have if My Country's TPS Designation Is Terminated?

When a country's TPS designation is terminated, you will maintain the same immigration status that you held prior to obtaining TPS (unless that status has since expired or been terminated), or any other status you may have acquired while registered for TPS. Accordingly, if you held no lawful immigration status prior to being granted TPS and did not obtain any other status during the TPS period, you will revert to unlawful status upon the termination of the TPS designation. Once the Secretary determines that a TPS designation should be terminated, aliens who had TPS under that designation, and who do not hold any other lawful immigration status, must plan for their departure from the United States.

May I Apply for Another Immigration Benefit While Registered for TPS?

Yes. Registration for TPS does not prevent you from applying for nonimmigrant status, filing for adjustment of status based on an immigrant petition, or applying for any other immigration benefit or protection. Section 244(a)(5) of the Act, 8 U.S.C. 1254a(a)(5). For the purposes of change of status and adjustment of status, an alien is considered to be in, and maintaining, lawful status as a nonimmigrant during the period in which he or she is granted TPS. See section 244(f)(4) of the Act, 8 U.S.C. 1254a(f)(4).

However, if an alien has periods of time when he or she had no lawful immigration status before, or after, the alien's time in TPS, those period(s) of unlawful presence may negatively affect that alien's ability to adjust to permanent resident status or be granted other immigration benefits, depending on the circumstances. See, e.g., section 212(a)(9)(B) of the Act, 8 U.S.C. 1182(a)(9)(B) (unlawful presence ground of inadmissibility that is triggered by a departure from the United States). In some cases, the unlawful presence ground of inadmissibility, or certain other grounds of inadmissibility, may be waived when an alien applies for adjustment or change of status.

How Does an Application for TPS Affect My Application for Asylum or Other Immigration Benefits?

An application for TPS does not affect an application for asylum or any other immigration benefit. Denial of an application for asylum or any other immigration benefit does not affect an alien's TPS eligibility, although the grounds for denying one form of relief may also be grounds for denying TPS. For example, a person who has been convicted of a particularly serious crime is not eligible for asylum or TPS. See sections 244(b)(2)(A)(ii) and 244(c)(2)(B)(ii) of the Act, 8 U.S.C. 1254a(b)(2)(A)(ii) and 8 U.S.C. 1254a(c)(2)(B)(ii).

Can Nationals of Sudan (or Aliens Having No Nationality Who Last Habitually Resided in Sudan) Who Entered the United States after October 7, 2004, File for TPS?

No. To be eligible for benefits under this extension, nationals of Sudan (or aliens having no nationality who last habitually resided in Sudan) must have continuously resided and have been continuously physically present in the United States since October 7, 2004, the date of the most recent designation of Sudan for TPS. See section 244(c)(1) of the Act, 8 U.S.C. 1254a(c)(1); 69 FR 60168.

How Will I Know if I Have To Report to an Application Support Center (ASC) to Submit Biometrics?

USCIS will mail you a notice with instructions as to whether or not you are required to appear at an ASC for biometrics collection. To increase efficiency and improve customer service, USCIS will, whenever possible, reuse previously-captured biometrics and will conduct necessary security checks using those biometrics, such that you may not be required to appear at an ASC. Due to systems limitations, it may not be possible in every case to reuse biometrics.

However, even if you do not need to attend an ASC appointment, you are required to pay the separate biometrics fee or submit an appropriately supported fee waiver request if you are age 14 or older. See 8 CFR 244.6. This fee will help cover the USCIS costs associated with use and maintenance of collected biometrics (such as fingerprints) for FBI and other background checks, identity verification, and document production.

What Documents Should I Bring to My ASC Appointment?

When you report to an ASC, you must bring the following documents:

(1) Your receipt notice for your re-registration application;

(2) Your ASC appointment notice; and

(3) Your current EAD.

If no further action is required for your case, you will receive a new EAD valid through November 2, 2011, by mail. If your case requires further resolution, USCIS will contact you in writing to explain what additional information, if any, is necessary to resolve your case. If your application is subsequently approved, you will receive a new EAD in the mail with an expiration date of November 2, 2011.

Failure to appear at an ASC for a required ASC appointment will result in denial of your case due to abandonment unless you submit an address change notification (see instructions below) or a rescheduling request prior to your appointment.

What if My Address Changes after I File My Re-Registration Application?

If your address changes after you file your application for re-registration, you must complete and submit Form AR-11 by mail or electronically. The mailing address is: U.S. Citizenship and Immigration Services, Change of Address, P.O. Box 7134, London, KY 40742-7134.

Form AR-11 can also be filed electronically by following the directions on the USCIS Web site at: http://www.uscis.gov. To facilitate processing your address change on your TPS application, you may call the USCIS National Customer Service Center at 1-800-375-5283 (TTY 1-800-767-1833) to request that your address be updated on your application. Please note that calling the USCIS National Customer Service Center does not relieve you of your burden to properly file a Form AR-11 with USCIS.

Will My Current EAD that is Set To Expire on May 2, 2010, Automatically Be Extended for Six Months?

No. This Notice does not automatically extend previously-issued EADs. DHS has announced the extension of the TPS designation of Sudan and established the re-registration period at an early date to allow sufficient time for DHS to process EAD requests prior to the May 2, 2010, expiration date. You must apply during the 60-day re-registration period. Failure to apply during the re-registration period without good cause will result in a withdrawal of your TPS benefits. DHS strongly encourages you to file as early as possible within the re-registration period.

May I Request an Interim EAD at My Local District Office?

No. USCIS will not issue interim EADs to TPS applicants and re-registrants at district offices.

What Documents May a Qualified Individual Show to His or Her Employer as Proof of Employment Authorization and Identity When Completing Form I-9?

After May 2, 2010, a TPS beneficiary under TPS for Sudan who has timely re-registered with USCIS as directed under this Notice and obtained a new EAD valid through November 2, 2011, may present his or her new valid EAD to an employer as proof of employment authorization and identity. Employers may not accept previously issued EADs that are no longer valid.

Individuals also may present any other legally acceptable document or combination of documents listed on the Form I-9 as proof of identity and employment eligibility.

Note to Employers

Employers are reminded that the laws requiring employment eligibility verification and prohibiting unfair immigration-related employment practices remain in full force. This Notice does not supersede or in any way limit applicable employment verification rules and policy guidance, including those rules setting forth re-verification requirements. For questions, employers may call the USCIS Customer Assistance Office at 1-800-357-2099. Employers may also call the U.S. Department of Justice Office of Special Counsel for Immigration Related Unfair Employment Practices (OSC) Employer Hotline at 1-800-255-8155. Employees or applicants may call the OSC Employee Hotline at 1-800-255-7688 for information regarding the automatic extension. Additional information is available on the OSC Web site at http://www.usdoj.gov/crt/osc/index.html.

[FR Doc. E9-30831 Filed 12-30-09; 8:45 am]

BILLING CODE 9111-97-P